DEPARTMENT OF HEALTH AND HUMAN SERVICES (HHS)

Centers for Disease Control and Prevention (CDC)

Request for Nominations of Candidates To Serve on the Interagency Committee on Smoking and Health, (ICSH)

The ICSH is soliciting nominations for consideration of membership on the committee. This committee provides advice and guidance to the Secretary, HHS, and the Director, CDC regarding (a) coordination of all research and education programs and other activities within the Department and with other federal, State, local and private agencies and (b) establishment and maintenance of liaison with appropriate private entities, federal agencies, and State and local public health agencies with respect to smoking and health activities.

Nominations are being sought for individuals who have expertise and qualifications necessary to contribute to the accomplishment of the committee's objectives. Nominees must meet all of the following mandatory qualifications to be eligible for consideration: Expertise in the field of tobacco control and multi-disciplinary expertise in public health; and knowledge of national health policies and programs managed by HHS. Additionally, desirable qualifications include: (1) Knowledge of emerging tobacco control policies and experience in analyzing, evaluating, and interpreting Federal, State and/or local health or regulatory policy that includes Point of Sale, warning labels, and advertising restrictions; or (2) knowledge of product regulation and the emerging environment of tobacco control and expertise in developing or contributing to the development of policies/or programs; or (3) familiarity of rapid and emerging surveillance systems that will allow for the timely evaluation of tobacco product regulation and/or the impact of tobacco control interventions. Balanced membership will depend upon several factors, including: (1) The committee's mission; (2) the geographic, ethnic, social, economic, or scientific impact of the advisory committee's recommendations; (3) the types of specific perspectives required, for example, such as those of consumers, technical experts, the public at-large, academia, business, or other sectors; (4) the need to obtain divergent points of view on the issues before the advisory committee; and (5) the relevance of State, local, or tribal governments to the development of the advisory committee's recommendations. Members may be invited to serve for up to four-year terms. Nominees must be U.S. citizens.

The following information must be submitted for each candidate: name, affiliation, address, telephone number, and current curriculum vitae. E-mail addresses are requested if available. Additionally, the following information must be included: (1) Letter of recommendation stating the nominee's qualifications; (2) letter of nomination that provides specific attributes that qualify the nominee for service; (3) a statement indicating the nominee's willingness to serve as a potential member of the Committee; and (4) a narrative addressing the nominee's experience and professional/technical qualifications.

Nominations should be sent electronically or in writing, and postmarked by November 19, 2010 to: Ms. Monica Swann, Committee Management Specialist, NCCDPHP, CDC, 4770 Buford Highway (MS-K 50), Chamblee, Georgia 30341. (E-mail address: zqe0@cdc.gov). Telephone and facsimile submissions cannot be accepted.

Candidates invited to serve will be required to submit the Confidential Financial Disclosure Report (OGE 450) form for Special Government Employees (SGEs) serving on Federal Advisory Committees at CDC. This form allows CDC to determine whether there is a statutory conflict between that person's public responsibilities as a SGE and private interests and activities, or the appearance of a lack of impartiality, as defined by Federal regulation. The form may be viewed and downloaded at http://www.usoge.gov/forms/oge450_pdf/oge450_accessible.pdf. This form should not be submitted as part of a nomination.

The Director, Management Analysis and Services Office, has been delegated the authority to sign Federal Register notices pertaining to announcements of meetings and other committee management activities, for both CDC and the Agency for Toxic Substances and Disease Registry.

Dated: October 27, 2010.
Elaine L. Baker,
Director, Management Analysis and Services Office, Centers for Disease Control and Prevention.

[FR Doc. 2010-27600 Filed 11-2-10; 8:45 am]

BILLING CODE 4163-18-P